NUCLEAR REGULATORY COMMISSION

[NRC-2018-0137]

Dispositioning of Technical Specifications That Are Insufficient To Ensure Plant Safety

AGENCY: Nuclear Regulatory Commission.

ACTION: Draft regulatory guide; request for comment.

SUMMARY: The U.S. Nuclear Regulatory Commission (NRC) is issuing for public comment draft regulatory guide (DG), DG-1351, “Dispositioning of Technical Specifications that are Insufficient to Ensure Plant Safety.” This DG proposes new guidance that describes methods and procedures that are acceptable to the (NRC) staff for dispositioning of technical specifications (TS) that are insufficient to ensure power plant safety.

DATES: Submit comments by September 4, 2018. Comments received after this date will be considered if it is practical to do so, but the NRC is able to ensure consideration only for comments received on or before this date. Although a time limit is given, comments and suggestions in connection with items for inclusion in guides currently being developed or improvements in all published guides are encouraged at any time.

ADDRESSES: You may submit comments by any of the following methods:

• Federal Rulemaking Website: Go to http://www.regulations.gov and search for Docket ID NRC-2018-0137. Address questions about NRC dockets to Jennifer Borges; telephone: 301-287-9127; email: Jennifer.Borges@nrc.gov. For technical questions, contact the individuals listed in the FOR FURTHER INFORMATION CONTACT section of this document.

• Mail comments to: May Ma, Office of Administration, Mail Stop: TWFN-7-A60M, U.S. Nuclear Regulatory Commission, Washington, DC 20555-0001.

For additional direction on obtaining information and submitting comments, see “Obtaining Information and Submitting Comments” in the SUPPLEMENTARY INFORMATION section of this document.

FOR FURTHER INFORMATION CONTACT: Blake Purnell, Office of Nuclear Reactor Regulation; telephone: 301-415-1380, email: Blake.Purnell@nrc.gov or Stephen Burton, Office of Nuclear Regulatory Research; telephone: 301-415-7000, email: Stephen.Burton@nrc.gov. Both are staff of the U.S. Nuclear Regulatory Commission, Washington, DC 20555-0001.

SUPPLEMENTARY INFORMATION:

I. Obtaining Information and Submitting Comments

A. Obtaining Information

Please refer to Docket ID NRC-2018-0137 when contacting the NRC about the availability of information for this action. You may obtain publicly-available information related to this action by any of the following methods:

• Federal Rulemaking Website: Go to http://www.regulations.gov and search for Docket ID NRC-2018-0137.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. DG-1351, “Dispositioning of Technical Specifications that are Insufficient to Ensure Plant Safety,” is available in ADAMS under Accession ML18086A690.

• NRC's PDR: You may examine and purchase copies of public documents at the NRC's PDR, Room O1-F21, One White Flint North, 11555 Rockville Pike, Rockville, Maryland 20852.

B. Submitting Comments

Please include Docket ID NRC-2018-0137 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Additional Information

The NRC is issuing for public comment a DG in the NRC's “Regulatory Guide” series. This series was developed to describe and make available to the public information regarding methods that are acceptable to the NRC staff for implementing specific parts of the NRC's regulations, techniques that the staff uses in evaluating specific issues or postulated events, and data that the staff needs in its review of applications for permits and licenses.

The DG, entitled “Dispositioning of Technical Specifications that are Insufficient to Ensure Plant Safety,” is a proposed new guide temporarily identified by its task number, DG-1351. DG-1351 proposes new guidance that describes methods and procedures that are acceptable to the U.S. Nuclear Regulatory Commission (NRC) staff for dispositioning of technical specifications (TS) that are insufficient to ensure power plant safety.

This DG proposes guidance to licensees for compliance with the TS requirements in section 50.36 of title 10 of the Code of Federal Regulations (10 CFR), the reporting requirements in 10 CFR 50.72 and 50.73, and the quality assurance requirements in Criterion XVI of 10 CFR part 50, appendix B. This DG proposes to endorse NEI 15-03, Revision 2, with exceptions and clarifications.

III. Backfitting and Issue Finality

If finalized, this DG would endorse, with certain clarifications, NEI 15-03, Revision 2, which describes methods and procedures for dispositioning of TS that are insufficient to ensure power plant safety. Issuance of this DG, if finalized, would not constitute backfitting as defined in 10 CFR 50.109 (the Backfit Rule) and would not otherwise be inconsistent with the issue finality provisions in 10 CFR part 52. As discussed in the “Implementation” section of this DG, the NRC has no current intention to impose this guidance on holders of current operating licenses or combined licenses.

Dated at Rockville, Maryland, this 28th day of June 2018.
For the Nuclear Regulatory Commission.
Ruth Reyes-Maldonado,
Acting Chief, Regulatory Guidance and Generic Issues Branch, Division of Engineering, Office of Nuclear Regulatory Research.

[FR Doc. 2018-14379 Filed 7-3-18; 8:45 am]

BILLING CODE 7590-01-P